DEPARTMENT OF LABOR

Employment and Training Administration

[TA-W-57,253]

Vision Knits, Inc., Albemarle, NC; Notice of Negative Determination Regarding Application for Reconsideration

By application of June 28, 2005, a company official requested administrative reconsideration of the Department's negative determination regarding eligibility to apply for Trade Adjustment Assistance (TAA), applicable to workers and former workers of the subject firm. The denial notice was signed on June 16, 2005, and published in the Federal Register on July 14, 2005 (70 FR 40741).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of Vision Knits, Inc., Albemarle, North Carolina engaged in production of unfinished knit fabric was denied because the “contributed importantly” group eligibility requirement of section 222 of the Trade Act of 1974, as amended, was not met, nor was there a shift in production from that firm to a foreign country. The “contributed importantly” test is generally demonstrated through a survey of the workers' firm's customers. The survey revealed no imports of unfinished knit fabric during the relevant period. The subject firm did not import unfinished knit fabric nor did it shift production to a foreign country during the relevant period.

The petitioner states that even though the subject firm produces fabric, this fabric is further used in the production of garments. The petitioner alleges that because final customers purchase garments from foreign countries, the subject firm lost its business due to the imports of finished garments.

The petitioner attached two letters from customers to support the allegations. The letters state that increased imports of finished garments resulted in customers' loss of business.

The petitioner concludes that, because the production of garments occurs abroad, the subject firm workers producing fabric are import impacted.

In order to establish import impact, the Department must consider imports that are like or directly competitive with those produced at the subject firm. Imports of garments cannot be considered like or directly competitive with unfinished fabric produced by Vision Knits, Inc.

Conclusion

After review of the application and investigative findings, I conclude that there has been no error or misinterpretation of the law or of the facts which would justify reconsideration of the Department of Labor's prior decision. Accordingly, the application is denied.

Signed in Washington, DC, day 28th of July, 2005.
Linda G. Poole,
Certifying Officer, Division of Trade Adjustment Assistance.

[FR Doc. E5-4295 Filed 8-8-05; 8:45 am]

BILLING CODE 4510-30-P